DEPARTMENT OF ENERGY

Federal Energy Regulatory Commission

Combined Notice of Filings #1

Take notice that the Commission received the following exempt wholesale generator filings:

Docket Numbers: EG20-149-000.

Applicants: Minco Wind I, LLC.

Description: Notice of Self-Certification of Exempt Wholesale Generator Status of Minco Wind I, LLC.

Filed Date: 5/6/20.

Accession Number: 20200506-5248.

Comments Due: 5 p.m. ET 5/27/20.

Docket Numbers: EG20-150-000.

Applicants: Ponderosa Wind, LLC.

Description: Notice of Self-Certification of Exempt Wholesale Generator Status of Ponderosa Wind, LLC.

Filed Date: 5/6/20.

Accession Number: 20200506-5249.

Comments Due: 5 p.m. ET 5/27/20.

Docket Numbers: EG20-151-000.

Applicants: Sky Global Power Two LLC.

Description: Notice of Self-Certification of EWG Status of Sky Global Power Two LLC.

Filed Date: 5/6/20.

Accession Number: 20200506-5250.

Comments Due: 5 p.m. ET 5/27/20.

Take notice that the Commission received the following electric rate filings:

Docket Numbers: ER19-1890-002.

Applicants: MATL LLP.

Description: Compliance filing: Order No. 845 Compliance Filing Amendment ER19-1890 to be effective 5/22/2019.

Filed Date: 5/7/20.

Accession Number: 20200507-5120.

Comments Due: 5 p.m. ET 5/28/20.

Docket Numbers: ER20-1452-001.

Applicants: Southern California Edison Company.

Description: Tariff Amendment: Resubmit 2020 TACBAA Update to be effective 6/1/2020.

Filed Date: 5/7/20.

Accession Number: 20200507-5096.

Comments Due: 5 p.m. ET 5/28/20.

Docket Numbers: ER20-1777-000.

Applicants: Jersey Central Power & Light Company.

Description: § 205(d) Rate Filing: Rate Schedules and Agreements Yards Creek to be effective 7/5/2020.

Filed Date: 5/6/20.

Accession Number: 20200506-5216.

Comments Due: 5 p.m. ET 5/27/20.

Docket Numbers: ER20-1778-000.

Applicants: Idaho Power Company.

Description: Tariff Cancellation: Cancellation of NTTG Funding Agreement to be effective 4/30/2020.

Filed Date: 5/7/20.

Accession Number: 20200507-5000.

Comments Due: 5 p.m. ET 5/28/20.

Docket Numbers: ER20-1779-000.

Applicants: Midcontinent Independent System Operator, Inc., ALLETE, Inc.

Description: § 205(d) Rate Filing: 2020-05-07_SA 3326 MP-BPU 1st Rev T-T (Brainerd) to be effective 5/8/2020.

Filed Date: 5/7/20.

Accession Number: 20200507-5025.

Comments Due: 5 p.m. ET 5/28/20.

Docket Numbers: ER20-1780-000.

Applicants: Midcontinent Independent System Operator, Inc.

Description: § 205(d) Rate Filing: 2020-05-07_SA 3488 MDU-MDU GIA (R1000) to be effective 4/23/2020.

Filed Date: 5/7/20.

Accession Number: 20200507-5038.

Comments Due: 5 p.m. ET 5/28/20.

Docket Numbers: ER20-1781-000.

Applicants: Alabama Power Company.

Description: § 205(d) Rate Filing: Bulldog Solar (Bulldog Solar I) LGIA Filing to be effective 4/24/2020.

Filed Date: 5/7/20.

Accession Number: 20200507-5088.

Comments Due: 5 p.m. ET 5/28/20.

Docket Numbers: ER20-1782-000.

Applicants: Southwest Power Pool, Inc.

Description: § 205(d) Rate Filing: Revisions Regarding Make Whole Payments and Minimum Run Time to be effective 12/31/9998.

Filed Date: 5/7/20.

Accession Number: 20200507-5116.

Comments Due: 5 p.m. ET 5/28/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 7, 2020.
Nathaniel J. Davis, Sr.,
Deputy Secretary.

[FR Doc. 2020-10279 Filed 5-12-20; 8:45 am]

BILLING CODE 6717-01-P